ENVIRONMENTAL PROTECTION AGENCY

40 CFR Part 52

[EPA-R05-OAR-2017-0280; FRL-9972-32-Region 5]

Air Plan Approval; Wisconsin; 2017 Revisions to NR 400 and 406; Withdrawal of Direct Final Rule

AGENCY: Environmental Protection Agency (EPA).

ACTION: Withdrawal of direct final rule.

SUMMARY: Due to the receipt of an adverse comment, the Environmental Protection Agency (EPA) is withdrawing the November 7, 2017, direct final rule approving a revision to the Wisconsin State Implementation Plan (SIP). The revision replaces the definition of “emergency electric generator” with a broader definition of “restricted internal combustion engine”, makes amendments to procedures for revoking construction permits as well as language changes and other administrative updates, and lastly, removing from the SIP two Wisconsin Administrative Code provisions that affect eligibility of coverage under general and construction permits.

DATES: The direct final rule published at 82 FR 51575 on November 7, 2017, is withdrawn effective December 21, 2017.

FOR FURTHER INFORMATION CONTACT: Radhica Kanniganti, Environmental Engineer, Air Permits Section, Air Programs Branch (AR-18J), Environmental Protection Agency, Region 5, 77 West Jackson Boulevard, Chicago, Illinois 60604, (312) 886-8097, kanniganti.radhica@epa.gov.

SUPPLEMENTARY INFORMATION: In the direct final rule, EPA stated that if adverse comments were submitted by December 7, 2017, the rule would be withdrawn and not take effect. EPA received an adverse comment prior to the close of the comment period and, therefore, is withdrawing the direct final rule. EPA will address the comment in a subsequent final action based upon the proposed action also published on November 7, 2017 (82 FR 51594). EPA will not institute a second comment period on this action.

List of Subjects in 40 CFR Part 52

Environmental protection, Air pollution control, Incorporation by reference, Intergovernmental relations, Reporting and recordkeeping requirements.

Authority: 42 U.S.C. 7401 et seq.

Dated: December 8, 2017.
Robert A. Kaplan,
Acting Regional Administrator, Region 5.

PART 52—APPROVAL AND PROMULGATION OF IMPLEMENTATION PLANS

Accordingly, the amendment to 40 CFR 52.2570 published in the Federal Register on November 7, 2017 (82 FR 51575) is withdrawn effective December 21, 2017.

[FR Doc. 2017-27425 Filed 12-20-17; 8:45 am]

BILLING CODE 6560-50-P